DEPARTMENT OF COMMERCE

National Oceanic and Atmospheric Administration

[RTID 0648-XE649]

Mid-Atlantic Fishery Management Council (MAFMC) Public Meeting

AGENCY: National Marine Fisheries Service (NMFS), National Oceanic and Atmospheric Administration (NOAA), Commerce.

ACTION: Notice; public meeting.

SUMMARY: The Mid-Atlantic Fishery Management Council's Ecosystem and Ocean Planning Committee and Advisory Panel will hold a joint public meeting.

DATES: The meeting will be held on Tuesday, March 4, 2025, from 8:30 a.m. to 4:30 p.m. For agenda details, see SUPPLEMENTARY INFORMATION.

ADDRESSES: This meeting will be an in-person meeting with a virtual option. Committee and Advisory Panel members, other meeting participants, and members of the public will have the option to participate in person at the Hilton BWI Airport, 1739 W Nursery Road, Linthicum Heights, MD 21092, or virtually via webinar. Webinar connection details and additional information will be available at www.mafmc.org/council-events.

Council addresses: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The purpose of this joint meeting is for the Ecosystem and Ocean Planning Committee and Advisory Panel to provide recommendations regarding the Council's Essential Fish Habitat (EFH) Review and the draft EFH Review Reports that have been prepared. The Committee and Advisory Panel will receive an overview of the NMFS EFH Review requirements (i.e., 9 components of an EFH Review) and how those have been addressed in a draft EFH Review Summary Report.

Special Accommodations

The meeting is physically accessible to people with disabilities. Requests for sign language interpretation or other auxiliary aids should be directed to Shelley Spedden at the Council Office, (302) 526-5251, at least 5 days prior to the meeting date.

Authority: 16 U.S.C. 1801 et seq.

Dated: February 5, 2025.
Rey Israel Marquez,
Acting Deputy Director, Office of Sustainable Fisheries, National Marine Fisheries Service.

[FR Doc. 2025-02414 Filed 2-7-25; 8:45 am]

BILLING CODE 3510-22-P